DEPARTMENT OF LABOR

Office of the Secretary

Submission for OMB Review: Comment Request

June 14, 2006.

The Department of Labor (DOL) has submitted the following public information collection request (ICR) to the Office of Management and Budget (OMB) for review and approval in accordance with the Paperwork Reduction Act of 1995 (Pub. L. 104-13, 44 U.S.C. Chapter 35). A copy of this ICR, with applicable supporting documentation, may be obtained by contacting Ira Mills at the Department of Labor on 202-693-4122 (this is not a toll-free number) or e-mail Mills.Ira@dol.gov. This ICR can also be accessed online at http://www.doleta.gov/OMBCN/OMBControlNumber.cfm.

Comments should be sent to Office of Information and Regulatory Affairs, Attn: OMB Desk Officer for ETA, Office of Management and Budget, Room 10235, Washington, DC 20503, 202-395-7316 (this is not a toll free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submission of responses.

Agency: Employment and Training Administration (ETA).

Type of Review: Revision.

Title: Quarterly Determinations, Allowance Activities, and Employability Services Under the Trade Act; Training Waivers Issued and Revoked.

OMB Number: 1205-0016.

Frequency: Quarterly.

Affected Public: State, local, or tribal government and Federal Government.

Type of Response: Reporting.

Number of Respondents: 50.

Annual Responses: 200.

Average Response Time: 18 minutes.

Total Annual Burden Hours: 60.

Total Annualized Capital/Startup Costs: 0.

Total Annual Costs (operating/maintaining systems or purchasing services): 0.

Description: Quarterly data on Trade Adjustment Assistance (TAA) activity is necessary for timely program evaluation, for competent administration, and for providing legally mandated reports to Congress. Section 231(c) of the Trade Act of 1974 as amended by the Trade Adjustment Assistance Reform Act of 2002 requires the states to submit reports to the Secretary on training waivers issued and revoked.

Ira L. Mills,
Departmental Clearance Officer/Team Leader.

[FR Doc. E6-9712 Filed 6-20-06; 8:45 am]

BILLING CODE 4510-30-P